DEPARTMENT OF HOMELAND SECURITY

U.S. Customs and Border Protection

Streamlining I-94 Issuance at the Land Border

AGENCY: U.S. Customs and Border Protection, DHS.

ACTION: General notice.

SUMMARY: To increase efficiency, reduce operating costs, and streamline the admissions process, U.S. Customs and Border Protection (CBP) is now issuing electronic Form I-94s (Arrival/Departure Record) at land ports of entry. The Form I-94 documents nonimmigrants' status in the United States, the approved length of stay, and departure information. CBP has automated the Form I-94 process for the majority of nonimmigrants arriving by air and sea. However, CBP previously issued paper Form I-94s to nonimmigrants arriving by land. For land arrivals, CBP is no longer issuing paper forms to nonimmigrants upon arrival except in limited circumstances and upon nonimmigrant request if feasible. Nonimmigrants can access Form I-94s online or via mobile application.

FOR FURTHER INFORMATION CONTACT: Tricia Kennedy, Office of Field Operations, U.S. Customs and Border Protection at Tricia.Kennedy@cbp.dhs.gov or (813) 927-6420.

SUPPLEMENTARY INFORMATION:

I. Background

A. The Form I-94

The Department of Homeland Security (DHS) delegated its authority to issue and process the Form I-94 (Arrival/Departure Record) to U.S. Customs and Border Protection (CBP). See DHS Delegation 7010.3 II.B.5 (May 11, 2006). CBP issues a Form I-94 to certain nonimmigrants who are eligible for admission or parole in the United States. Each arriving nonimmigrant who is admitted to the United States, including nonimmigrants arriving by commercial conveyances, must be issued a Form I-94 as evidence of the terms of admission, unless otherwise exempted.¹ See section 235.1(h) of title 8 of the Code of Federal Regulations (8 CFR 235.1(h)). CBP generally issues the Form I-94 to nonimmigrants at the time they lawfully enter the United States. The current Form I-94 documents nonimmigrants' arrival and departure information, as well as their biographical information, such as name, birth date, sex, country of citizenship, visa and passport information or Alien Registration Number for certain categories of nonimmigrant, country of residence, address and telephone number while in the United States, and email address. For nonimmigrants admitted to the United States, the Form I-94 becomes the evidence of the terms of their admission. For nonimmigrants paroled into the United States, the Form I-94 reflects the duration and classification of parole. Currently, the Form I-94 process is automated for nonimmigrants arriving by air or sea. For nonimmigrants arriving by land, CBP utilized a paper I-94 process that included a nonautomated electronic submission option. These processes are described below.

¹ The Form I-94 is not required for nonimmigrants seeking admission to the United States under the Visa Waiver Program (VWP). Rather, the Form I-94W is the form required for nonimmigrants seeking admission into the United States under the VWP. The other categories of nonimmigrants not subject to the I-94 requirement are enumerated in 8 CFR 235.1(h)(1).

B. Previous Paper I-94 Process for Land Arrivals

CBP previously used a paper Form I-94 process for all eligible nonimmigrants arriving at land ports of entry (POEs). The paper Form I-94 consists of two parts: The arrival portion and the departure portion. Each nonimmigrant arriving by land for whom a Form I-94 is required completes both the arrival and departure portions of the form either en route to or upon arrival in the United States when applicable.² The information requested on the arrival portion of the I-94 includes: Family name, first (given) name, birth date, country of citizenship, sex, passport number, passport expiration date, passport issue date, airline and flight number (if applicable), country of residence, country of boarding, city where visa was issued, date visa was issued, address and telephone number while in the United States, and email address. The departure portion includes fields for the nonimmigrant's full name, birth date, and country of citizenship.

² Previously all eligible nonimmigrants would complete the paper Form I-94. Now nonimmigrants may continue to submit their information via the paper Form I-94 on arrival, but CBP strongly encourages nonimmigrants to submit their I-94 information via the website or mobile application up to seven days in advance instead.

After the nonimmigrant completes the Form I-94, he or she presents it to a CBP officer at primary inspection, along with his or her travel documents and any other applicable information. Previously, after a successful completion of the inspection process, a CBP officer stamped the nonimmigrant's Form I-94 and passport with either an admission or parole stamp. The CBP officer retained the arrival portion of the Form I-94 and returned the departure portion to the nonimmigrant. The departure portion of the form was provided to the nonimmigrant to retain in his or her possession for the duration of his or her stay and to surrender upon departure. In some circumstances, a nonimmigrant is required to have the Form I-94 in his or her possession at all times while in the United States. The nonimmigrant could present the departure portion to establish, where applicable, eligibility for employment, enrollment in a university, or benefits.

CBP collects the arrival portions of the paper Forms I-94 daily at each POE and boxes and mails them to a centralized data processing center for logging, processing, scanning, and data capture.

C. Automation of Form I-94 for Air and Sea Arrivals

Prior to the automation of the Form I-94 for air and sea arrivals, CBP followed the same paper Form I-94 process described above for all air and sea arrivals. In order to transition to an automated process, DHS published an interim final rule (IFR), which amended DHS regulations to specify that the Form I-94 could be created and issued in either paper or electronic format. See 78 FR 18457 (Mar. 27, 2013). On December 19, 2016, CBP finalized the changes announced in the IFR with the publication of a Final Rule in the Federal Register (81 FR 91646). Although the regulatory changes permitted DHS to automate the Form I-94 process for all modes of travel (air, sea, or land), CBP stated in the IFR that it was transitioning to an automated Form I-94 process for only air and sea arrivals at that time. Pursuant to the automated process, CBP no longer requires nonimmigrants arriving by air and sea to fill out a paper Form I-94 in most circumstances. Instead, an electronic version of the Form I-94 is populated with information available in CBP's databases, including the information electronically transmitted by air and sea carriers, as well as data from the Department of State's Consular Consolidated Databases (CCD). Any data element not available electronically is collected by the CBP officer at the time of inspection and recorded in the relevant electronic system.

After a successful inspection, CBP issues an electronic Form I-94, which the nonimmigrant can access on a CBP website, https://i94.cbp.dhs.gov, or via the CBP One™ mobile application, by entering details from his or her passport or Alien Registration Number for certain categories of nonimmigrants. The nonimmigrant can print a paper version of the Form I-94 to present as evidence of admission or parole. The printed version is the functional equivalent of the paper Form I-94. CBP may issue paper Form I-94s in limited circumstances and may provide a paper Form I-94 upon request from a nonimmigrant if feasible.

D. Enhanced Form I-94 Land Border Process

As detailed in the Final Rule, in addition to the automation of the Form I-94 at air and sea POEs started by the 2013 IFR, CBP modified the process by which a nonimmigrant arriving at the land border can provide Form I-94 information and pay the related fee by adding a nonautomated electronic option on September 29, 2016. 81 FR 91646, 91648 (Dec. 19, 2016). Specifically, CBP enhanced the I-94 website to enable nonimmigrants arriving at a land POE to submit the Form I-94 information to CBP and pay the required fee prior to arrival. Using the I-94 website, the nonimmigrant enters all of the required data for I-94 processing that would be collected by CBP at the POE. Upon paying the fee, the nonimmigrant receives an electronic “provisional I-94”. This “provisional I-94” becomes effective after the nonimmigrant appears at a land POE and completes the I-94 issuance process with a CBP officer. If the “provisional I-94” is not processed within seven days of submitting the application, it will expire and the fee will be forfeited.

The I-94 website instructs the nonimmigrant to appear at the land POE for an interview and biometric collection. When the nonimmigrant arrives at the POE, the nonimmigrant completes the issuance process with a CBP officer. The CBP officer will locate the nonimmigrant's information in CBP's database using the nonimmigrant's passport or other travel document. This will verify that the fee was paid and pre-populate the data fields from the document and the information provided in advance by the nonimmigrant on the I-94 website. Prior to May 26, 2021, if the CBP officer determined that the nonimmigrant was admissible, the CBP officer would print out a Form I-94 and give it to the nonimmigrant.

However, as of May 26, 2021, CBP is no longer providing a paper form to these nonimmigrants, who may now access their Form I-94 via the website or the CBP One™ mobile application. As of June 11, 2021, in addition to accessing their I-94 via the CBP One™ mobile application, nonimmigrants now also have the option of submitting their Form I-94 information and paying the related fee via the CBP One™ mobile application to receive a “provisional I-94” prior to arriving at land POEs.

II. Legal Authority

The IFR added to the regulations a definition of “Form I-94” that allows DHS to issue the Form I-94 in either paper or electronic format.³ The introductory text of 8 CFR 1.4 states that the term “Form I-94” includes the collection of arrival/departure and admission or parole information by DHS, whether in paper or electronic format. Additionally, the “issuance” of a Form I-94 includes, but is not limited to, the creation of an electronic record of admission or arrival/departure by DHS following an inspection performed by an immigration officer. 8 CFR 1.4(c). Together, these regulations authorize CBP to issue Form I-94 in either a paper or electronic format to any nonimmigrant eligible to receive a Form I-94.

³ See 8 CFR 1.4. CBP finalized the changes announced in the IFR with the publication of the 2016 Final Rule.

III. Streamlining I-94 Issuance at the Land Border

To increase efficiency, reduce operating costs, and streamline the admissions process, CBP is now issuing Form I-94s electronically and nonimmigrants no longer receive a paper I-94 receipt. Nonimmigrants can access their Form I-94s online through a website or via a mobile application. CBP will no longer provide a paper version of Form I-94 in the majority of circumstances. CBP continues to issue a Form I-94 at land POEs only upon payment of a fee.

A. The Electronic Form I-94

As of May 26, 2021, CBP officers no longer issue most eligible nonimmigrants a paper version of the I-94 at the time of admission or parole. Rather, CBP issues an electronic Form I-94, which the nonimmigrant can access on a CBP website, https://i94.cbp.dhs.gov, or via the CBP One™ mobile application. However, CBP may issue a paper Form I-94 in limited circumstances and may provide a paper Form I-94 upon request from a nonimmigrant if feasible.

The printout from the website or mobile application is the functional equivalent of the departure portion of the paper Form I-94 and includes the terms and duration of admission or parole. Nonimmigrants may print out a copy of the Form I-94 from the website or mobile application and present it to third parties to establish, where applicable, eligibility for benefits, enrollment at a university, or eligibility for employment.

The streamlining of Form I-94 for nonimmigrants arriving by land by providing an electronic Form I-94 saves time and money for both the traveling public and CBP. The electronic process eliminates some of the paper Form I-94 processing performed by CBP and will reduce wait times at passenger processing, which will also facilitate inspection of all nonimmigrants. The electronic Form I-94 will save the time and expenses associated with lost Form I-94s, as nonimmigrants will simply be able to print out new copies from the website or mobile application as necessary, as opposed to filing a Form I-102 and paying a fee, as previously required. This will result in cost savings for nonimmigrants, carriers, and CBP.

B. Form I-94 Fee

For land border admissions, CBP issues a Form I-94 only upon payment of a fee. See 8 CFR 235.1(h). Nonimmigrants intending to enter the United States at land POEs have the option either to pay the required fee at the border during processing or pay the required fee online or via the CBP One™ mobile application up to seven days in advance of arrival.⁴ At this time, CBP is not changing the procedures regarding the payment of the Form I-94 fee. Accordingly, nonimmigrants arriving by land will continue to have the option to either pay the required fee at the POE or pay online or via the mobile application prior to arrival.

⁴ For more information on the electronic prepayment of the I-94 fee for land border POEs online see 81 FR 91646, 91648. For more information on the CBP One™ mobile application see https://www.cbp.gov/about/mobile-apps-directory/cbpone.

CBP strongly encourages nonimmigrants to apply and pay for I-94s via the website or mobile application.

IV. Privacy

CBP will ensure that all Privacy Act requirements and applicable policies are adhered to during the streamlining of Form I-94 at land border POEs.

V. Paperwork Reduction Act

The Paperwork Reduction Act (PRA) of 1995 (44 U.S.C. 3507(d)) requires that CBP consider the impact of paperwork and other information collection burdens imposed on the public. The Form I-94 is covered by OMB control number 1651-0111. There is no change to the information collection associated with this notice.

VI. Signing Authority

Commissioner Chris Magnus, having reviewed and approved this document, is delegating the authority to electronically sign this document to Robert F. Altneu, who is the Director of the Regulations and Disclosure Law Division for CBP, for purposes of publication in the Federal Register.

Dated: March 14, 2022.
Robert F. Altneu,
Director, Regulations & Disclosure Law Division, Regulations & Rulings, Office of Trade, U.S. Customs and Border Protection.

[FR Doc. 2022-05758 Filed 3-17-22; 8:45 am]

BILLING CODE 9111-14-P